DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before June 27, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on May 04, 2022.
Donald P. Burger,
Chief, General Approvals and Permits Branch.

Application No. | Applicant | Regulation(s) affected | Nature of the special permits thereof
Special Permits Data
21354-N | Showa Chemicals of America, Inc | 173.304a | To authorize the use of non-DOT specification cylinders similar to DOT 4BW specification cylinders. (modes 1, 3).
21355-N | Lake & Peninsula Airline Inc | 172.101(j), 173.242, 173.202, 173.203, 175.310(a) | To authorize the transportation in commerce of certain flammable liquids in non-specification bulk packaging (bladders) by cargo-only aircraft. (mode 4).
21358-N | Hornady Manufacturing Company | 172.300, 172.400, 173.24(f)(1), 173.62(c) | To authorize the transportation in commerce of “Cartridges, small arms” and “Cartridges, small arms, blank” in non-DOT specification packagings, with and without closures, and without being required to be marked and labeled. (mode 1).
21359-N | Thales Alenia Space | 172.101(j), 172.300, 172.400, 173.301(f), 173.302a(a)(1), 173.304a(a)(2), 173.185(a)(1) | To authorize the transportation in commerce of certain non-DOT specification containers containing Division 2.2 Division 2.3 compressed gases, and other hazardous materials, for use in specialty cooling and propulsion applications for a satellite. (modes 1, 3, 4).
21360-N | ABG Bag, Inc | 173.12(b)(2)(ii)(C), 178.707(d) | To authorize the use of alternative packaging for the transportation in commerce of lab packs. (mode 1).
21361-N | Strategic Edge Imports, LLC | 171.2(k), 172.204(a)(1), 172.204, 172.704 | To authorize the transportation in commerce of certain DOT Specification 3AL cylinders containing carbon dioxide with alternative hazard communication. Additionally, cylinders with a gauge pressure less than kPa (29.0 psig/43.8 psai) at 20 *C (68 *F) may be transported as a hazardous material.
21364-N | Cenergy Solutions Inc | 172.101(i)(3), 173.302 | To authorize the transportation in commerce of methane contained in MC-331 cargo tanks via highway. (mode 1).
21365-N | Borgwarner Akasol Ag | 172.101(j) | To authorize the transportation in commerce of lithium batteries that exceed 35 kg net weight via cargo-only aircraft. (mode 4).
21366-N | Our Next Energy Inc | 172.101(j), 173.185(a)(1) | To authorize the transportation in commerce of prototype and low production lithium batteries exceeding 35 kg net weight by cargo-only aircraft. (mode 4).

[FR Doc. 2022-11405 Filed 5-26-22; 8:45 am]

BILLING CODE 4909-60-P